DEPARTMENT OF HOMELAND SECURITY

Notice of Availability for Best Practices for Protecting Privacy, Civil Rights and Civil Liberties in Unmanned Aircraft Systems Programs

AGENCY: Office for Civil Rights and Civil Liberties, DHS; Privacy Office, DHS; and U.S. Customs and Border Protection, DHS.

ACTION: Notice of availability.

SUMMARY: The Office for Civil Rights and Civil Liberties (CRCL), the Privacy Office (Privacy), and U.S. Customs and Border Protection (CBP) announce the availability of the following document: “Best Practices for Protecting Privacy, Civil Rights & Civil Liberties in Unmanned Aircraft Systems Programs.” DHS has made the best practices document available on the Internet at the following locations: http://www.dhs.gov/security-intelligence-and-information-policy-section and http://www.dhs.gov/privacy-foia-reports.

FOR FURTHER INFORMATION CONTACT: Mark Becker, Senior Policy Advisor, Office for Civil Rights and Civil Liberties, mark.becker@hq.dhs.gov; Scott Mathews, Senior Policy Advisor for Privacy, Privacy Office scott.mathews@hq.dhs.gov; or Stephen Boyer, Director of Marine Operations, Office of Air and Marine, U.S. Customs and Border Protection, stephen.a.boyer@cbp.dhs.gov.

SUPPLEMENTARY INFORMATION: The development of a new technology, significant improvement of a current technology, or the new application of an existing technology often results in concerns about the impact on individual privacy, civil rights, and civil liberties. The integration of government and commercial unmanned aircraft systems into the National Airspace System by 2015, as required by the Federal Aviation Administration Modernization and Reform Act of 2012, has prompted questions about how this might impact individual rights. In this regard, CRCL, Privacy, and CBP jointly established the DHS Unmanned Aircraft Systems Privacy, Civil Rights and Civil Liberties Working Group in September 2012 to “provide leadership to the homeland security enterprise by clarifying the privacy, civil rights, and civil liberties legal and policy issues surrounding government use of [Unmanned Aircraft Systems].” The Working Group drafted the best practices.

DHS publishes these best practices to inform DHS and our local, state, and federal government partners and grantees interested in establishing unmanned aircraft programs grounded in policies and procedures that are respectful of privacy, civil rights, and civil liberties. These best practices are not prescriptive, but represent an optimal approach to sustaining privacy, civil rights, and civil liberties throughout the lifecycle of an unmanned aircraft systems program. Although the intended audience is DHS and other government agencies, the private sector may also find these practices instructive in creating or operating unmanned aircraft programs.

The best practices document is consistent with the February 15, 2015 Presidential Memorandum, Promoting Economic Competitiveness while Safeguarding Privacy, Civil Rights, and Civil Liberties in Domestic Use of Unmanned Aircraft Systems.

This best practices document was reviewed by the Office of Management and Budget pursuant to Executive Order 12866, Regulatory Planning and Review.

Christina E. McDonald,
Associate General Counsel for Regulatory Affairs.

[FR Doc. 2015-32410 Filed 12-23-15; 8:45 am]

BILLING CODE 9110-9K-P